DEPARTMENT OF ENERGY

Federal Energy Regulatory Commission

[Docket No. EL15-22-000]

Nevada Power Company; Notice of Institution of Section 206 Proceeding and Refund Effective Date

January 5, 2015.

On December 9, 2014, the Commission issued an order in Docket No. EL15-22-000, pursuant to section 206 of the Federal Power Act (FPA), 16 U.S.C. 824e (2012), instituting an investigation concerning the justness and reasonableness of the Berkshire MBR Sellers' and their affiliates' market-based rates in the PACE, PACW, Idaho Power, and NorthWestern balancing authority areas. Nevada Power Company, et al., 149 FERC ¶ 61,219 (2014).

The refund effective date in Docket No. EL15-22-000, established pursuant to section 206(b) of the FPA, will be the date of publication of this notice in the Federal Register.

Kimberly D. Bose,
Secretary.

[FR Doc. 2015-00154 Filed 1-8-15; 8:45 am]

BILLING CODE 6717-01-P